FEDERAL COMMUNICATIONS COMMISSION

[CC Docket No. 92-237; DA 13-2227]

GSA Approves Renewal of North American Numbering Council Charter Through September 20, 2015

AGENCY: Federal Communications Commission.

ACTION: Notice.

SUMMARY: On November 20, 2013, the Commission released a public notice announcing GSA's approval of the renewal of the North American Numbering Council charter through September 20, 2015. The intended effect of this action is to make the public aware of the renewal of the North American Numbering Council charter.

DATES: Renewed through September 20, 2015.

ADDRESSES: Competition Policy Division, Wireline Competition Bureau, Federal Communications Commission, The Portals II, 445 12th Street SW., Suite 5-C162, Washington, DC 20554.

FOR FURTHER INFORMATION CONTACT: Carmell Weathers, Special Assistant to the Designated Federal Officer (DFO) at (202) 418-2325 or carmell.weathers@fcc.gov. The fax number is: (202) 418-1413. The TTY number is: 1-888-835-5322.

SUPPLEMENTARY INFORMATION: The General Services Administration (GSA) has renewed the charter of the North American Numbering Council (NANC or Council) through September 20, 2015. The Council will continue to advise the Federal Communications Commission (Commission) on rapidly evolving and significant number administration issues facing the telecommunications industry.

In October 1995, the Commission established the NANC, a federal advisory committee created pursuant to the Federal Advisory Committee Act, 5 U.S.C., App. 2 (1988), to advise the Commission on issues related to North American Numbering Plan (NANP) administration. The NANP is the telephone numbering plan for the United States and its territories, Canada, Bermuda, and 17 Caribbean nations. The Commission filed the original charter of the Council on October 5, 1995, and established an initial two-year term. The Wireline Competition Bureau has renewed this charter every two years since that date. Since the last charter renewal, the Council has made recommendations to the Commission on important number administration matters, such as technical requirements related to a new Local Number Portability Administrator contract. The NANC also submitted recommendations on ways to improve local number porting, such as standardizing customer information and revising carrier procedures. In addition, the Council provided detailed annual evaluations of the current North American Numbering Plan Administrator, the Pooling Administrator, and the Billing and Collection Agent. It will continue to evaluate the performances of these entities annually. The Council is presently considering recommendations on other important number administration-related issues that will require work beyond the term of the present charter.

The value of this federal advisory committee to the telecommunications industry and to the American public cannot be overstated. Telephone numbers are the means by which consumers gain access to, and reap the benefits of, the public switched telephone network. The Council's recommendations to the Commission will ensure that telephone numbers are available to all telecommunications service providers on a fair and equitable basis, consistent with the requirements of the Telecommunications Act of 1996.

Federal Communications Commission.
Sanford S. Williams,
Attorney, Wireline Competition Bureau.

[FR Doc. 2013-30529 Filed 12-20-13; 8:45 am]

BILLING CODE 6712-01-P